DEPARTMENT OF ENERGY

Federal Energy Regulatory Commission

[Project Nos. 2897-048, 2932-047, 2941-043, 2931-042, 2942-051]

Sappi North America, Inc.; Notice of Comment Period Extension

On January 23, 2019, the Commission issued a notice through the FERC eLibrary system ¹ setting February 22, 2019, as the end of the formal period to file comments on the Notice of Availability of Draft Environmental Assessment for the surrender of the Saccarappa Project (P-2897-048), and amendments to the licenses for the Mallison Falls, Little Falls, Gambo, and Dundee projects (P-2932-047, P-2941-043, P-2931-042, and P-2942-051), respectively. Due to the funding lapse at certain federal agencies between December 22, 2018 and January 25, 2019, the Commission is extending the comment period until March 1, 2019.

¹ Go to https://elibrary.ferc.gov/idmws/search/intermediate.asp?link_file=yes&doclist=14738486 and select the file link to view the document.

Dated: February 14, 2019.
Kimberly D. Bose,
Secretary.

[FR Doc. 2019-03441 Filed 2-27-19; 8:45 am]

BILLING CODE 6717-01-P